DEPARTMENT OF JUSTICE

Antitrust Division

Notice Pursuant to the National Cooperative Research and Production Act of 1993—Consumer Specialty Products Association Inc.

Notice is hereby given that, on September 8, 2004, pursuant to section 6(a) of the National Cooperative Research and Production Act of 1993, 15 U.S.C. 4301 et seq. (“the Act”), Consumer Specialty Products Association Inc. (“CSPA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Consumer Specialty Products Association Inc., Washington, DC. The nature and scope of CSPA's standards development activities are: consumer-specialty product safety; product description, size and rating; product evaluation test procedures; definitions of terms; labeling and other product information; and recommended levels of performance, among others.

Dorothy B. Fountain,
Deputy Director of Operations, Antitrust Division.

[FR Doc. 04-23512 Filed 10-20-04; 8:45 am]

BILLING CODE 4410-11-M